DEPARTMENT OF DEFENSE

Department of the Army

Army Science Board Summer Study Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3.140 through 160, the Department of the Army announces the following committee meeting:

Name of Committee: Army Science Board (ASB).

Date(s) of Meeting: May 3, 2012.

Time(s) of Meeting: 11 a.m. to 12 p.m.

Location: Capital Conference Center, 3601 Wilson BLVD, Arlington, VA 22201.

Purpose: Hear the preliminary findings of the Strategic Directions for Army Science and Technology and vote on adoption.

Proposed Agenda: Open Session, the ASB will hear preliminary findings of the Strategic Directions for Army Science & Technology study and vote on adoption.

FOR FURTHER INFORMATION CONTACT: Non ASB attendee's must contact Mr. Oscar Valent at 703-617-0316, Oscar.B.Valent.ctr@mail.mil before April 26, 2012 in order to attend.

SUPPLEMENTARY INFORMATION: None.

Brenda S. Bowen,
Army Federal Register Liaison Officer.

[FR Doc. 2012-8828 Filed 4-11-12; 8:45 am]

BILLING CODE 3710-08-P